DEPARTMENT OF TRANSPORTATION

Federal Aviation Administration

14 CFR Part 39

[Docket No. FAA-2009-0613; Directorate Identifier 2009-NM-013-AD; Amendment 39-16195; AD 2010-04-02]

RIN 2120-AA64

Airworthiness Directives; Airbus Model A310-221, -222, -322, -324, and -325 Airplanes, and Model A300 B4-620, B4-622, B4-622R, and F4-622R Airplanes, Equipped With Pratt & Whitney PW4000 or JT9D-7R4 Series Engines

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During the year 2000, life extension exercise programs were launched for Airbus A310 and A300-600 aircraft. Certification of Extended Service Goal (ESG) is based on analysis, except for fan cowl and thrust reverser (T/R) latches, which are always certified by tests.

* * * testing of the T/R door centre latch has shown that this does not meet the requirements for ESG.

* * * * *

The unsafe condition is possible failure of the T/R latch and detachment of the T/R from the airplane, which could result in structural damage and consequent reduced controllability of the airplane. We are issuing this AD to require actions to correct the unsafe condition on these products.

DATES: This AD becomes effective March 19, 2010.

The Director of the Federal Register approved the incorporation by reference of certain publications listed in the AD as of March 19, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on July 16, 2009 (74 FR 34516). That NPRM proposed to correct an unsafe condition for the specified products. The MCAI states:

During the year 2000, life extension exercise programs were launched for Airbus A310 and A300-600 aircraft. Certification of Extended Service Goal (ESG) is based on analysis, except for fan cowl and thrust reverser (T/R) latches, which are always certified by tests.

Currently, the Airworthiness Limitation Item (ALI) task 54-50-28 for engine pylon T/R hinges requires inspection every 1,200 Flight Cycles (FC). An analysis performed by Airbus shows that forward and aft T/R door latches have been demonstrated successful for ESG, with inspection task every 1,200 FC. However, testing of the T/R door centre latch has shown that this does not meet the requirements for ESG.

For the reason described above, this EASA AD requires the replacement of the T/R centre latches with serialized latches on LH [left hand] and RH [right hand] engines and repetitive [detailed] inspections [for cracking] of the serialized latches. In addition, this AD introduces a life limit of 18,000 FC for the serialized centre latches.

The unsafe condition is possible failure of the T/R latch and detachment of the T/R from the airplane, which could result in structural damage and consequent reduced controllability of the airplane. The corrective action includes replacing the T/R latch if any surface crack is found during any inspection. You may obtain further information by examining the MCAI in the AD docket.

Comments

We gave the public the opportunity to participate in developing this AD. We considered the comments received.

Support for the NPRM

FedEx Express has no objections or comments on the content or technical details of the NPRM.

Request To Reduce Applicability

Airbus asks that Model A300 F4-605R airplanes be removed from the applicability specified in the NPRM. Airbus states that these airplanes are equipped with General Electric CF6-80C2A5 or CF6-80C2A5F engines.

We agree with Airbus for the reasons provided. The actions required by this AD are not applicable to Model A300 F4-605R airplanes and the MCAI does not refer to this model; therefore, we have removed that model from the applicability of this AD.

Request To Add a Note

Airbus also recommends that we include a note after paragraph (f)(2) of the NPRM that specifies that accomplishing ALI Task 54-50-28, which pertains to a detailed inspection of the engine cowl hinge fittings LH/RH, can be done when complying with the inspections required by paragraph (f)(2) of the AD.

We agree with the recommendation from Airbus. While not mandatory, performing the specified ALI task at the same time as the inspection required by paragraph (f)(2) of this AD would be of benefit to operators and would help to maintain an acceptable level of safety on the airplanes. We have added a new Note 1 to this AD (and renumbered subsequent notes) to include this recommendation.

Explanation of Clarification Made to the Service Bulletin References

In paragraph (f)(2) of the NPRM, we refer to Airbus Mandatory Service Bulletins A300-78-6029 and A310-78-2030, both including Appendix 1, both dated October 3, 2008, as the appropriate sources of service information for doing the inspection. However, the Accomplishment Instructions of those service bulletins do not contain procedures for doing the inspection, and the Pratt & Whitney service bulletins that contain the inspection procedures are referred to only in the Reason section of the Airbus service bulletins. Therefore, for clarification, we have referenced Pratt & Whitney Service Bulletins PW4NAC 78-113 and PW7R4 78-182, both dated August 15, 2005; in paragraph (f)(2) of this AD as the appropriate sources of service information for doing the inspection.

Explanation of Clarification Made to the NPRM

We have clarified the inspection requirement contained in the NPRM. Whereas the NPRM specifies an “inspection,” we have revised this AD to clarify that our intent is to require a detailed inspection.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 47 products of U.S. registry. We also estimate that it will take about 30 work-hours per product to comply with the basic requirements of this AD. The average labor rate is $80 per work-hour. Required parts will cost about $6,442 per product. Where the service information lists required parts costs that are covered under warranty, we have assumed that there will be no charge for these parts. As we do not control warranty coverage for affected parties, some parties may incur costs higher than estimated here. Based on these figures, we estimate the cost of this AD to the U.S. operators to be $415,574, or $8,842 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-04-02 Airbus: Amendment 39-16195. Docket No. FAA-2009-0613; Directorate Identifier 2009-NM-013-AD.

Effective Date

(a) This airworthiness directive (AD) becomes effective March 19, 2010.

Affected ADs

(b) None.

Applicability

(c) This AD applies to Airbus Model A310-221, -222, -322, -324, and -325 airplanes, and Model A300 B4-620, B4-622, B4-622R, and F4-622R airplanes, all serial numbers; certificated in any category; equipped with Pratt & Whitney PW4000 or JT9D-7R4 series engines.

Subject

(d) Air Transport Association (ATA) of America Code 78: Engine exhaust.

Reason

(e) The mandatory continuing airworthiness information (MCAI) states:

During the year 2000, life extension exercise programs were launched for Airbus A310 and A300-600 aircraft. Certification of Extended Service Goal (ESG) is based on analysis, except for fan cowl and thrust reverser (T/R) latches, which are always certified by tests.

Currently, the Airworthiness Limitation Item (ALI) task 54-50-28 for engine pylon T/R hinges requires inspection every 1,200 Flight Cycles (FC). An analysis performed by Airbus shows that forward and aft T/R door latches have been demonstrated successful for ESG, with inspection task every 1,200 FC. However, testing of the T/R door centre latch has shown that this does not meet the requirements for ESG.

For the reason described above, this EASA AD requires the replacement of the T/R centre latches with serialized latches on LH [left hand] and RH [right hand] engines and repetitive [detailed] inspections [for cracking] of the serialized latches. In addition, this AD introduces a life limit of 18,000 FC for the serialized centre latches.

The unsafe condition is possible failure of the T/R latch and detachment of the T/R from the airplane, which could result in structural damage and consequent reduced controllability of the airplane. The corrective action includes replacing the T/R latch if any surface crack is found during any inspection.

Actions and Compliance

(f) Unless already done, do the following actions.

(1) Before the accumulation of 30,000 total flight cycles since first flight of the airplane, or within 1,200 flight cycles after the effective date of this AD, whichever occurs later: Replace the non-serialized T/R center latch LH (left hand) and RH (right hand) sides, having part number (P/N) 221D0029-11 and P/N 221D0029-13, with a serialized T/R center latch having P/N 221D0029-15 in accordance with the Accomplishment Instructions of Airbus Mandatory Service Bulletin A300-78-6029 (for Model A300 B4-620, B4-622, B4-622R, and F4-622R airplanes) or A310-78-2030 (for Model A310-221, -222, -322, -324, and -325 airplanes), both including Appendix 1, both dated October 3, 2008.

(2) Within 1,200 flight cycles after accomplishing the replacement required by paragraph (f)(1) of this AD: Perform a detailed inspection for surface cracking of the T/R center serialized latches having P/N 221D0029-15, in accordance with the Accomplishment Instructions of Pratt &Whitney Service Bulletins PW4NAC 78-113 (for airplanes equipped Pratt & Whitney PW4000 series engines) and PW7R4 78-182 (for airplanes equipped JT9D-7R4 series engines), both dated August 15, 2005; as applicable. If any crack is found, before further flight, replace the serialized T/R center latch with a new serialized T/R center latch in accordance with the Accomplishment Instructions of Airbus Mandatory Service Bulletin A300-78-6029 or A310-78-2030, both including Appendix 1, both dated October 3, 2008; as applicable. Repeat the inspection thereafter at intervals not to exceed 1,200 flight cycles.

Note 1: Concurrent accomplishment of the inspections required by paragraph (f)(2) of this AD, with the inspections for engine pylon T/R hinges specified by ALI Task 54-50-28, is recommended.

(3) Before the accumulation of 18,000 total flight cycles since accomplishing the most recent replacement required by paragraph (f)(1) or (f)(2) of this AD: Replace the serialized T/R center latch having P/N 221D0029-15 with a new serialized T/R center latch having P/N 221D0029-15 in accordance with the Accomplishment Instructions of Airbus Mandatory Service Bulletin A300-78-6029 (for Model A300 B4-620, B4-622, B4-622R, and F4-622R) or A310-78-2030 (for Model A310-221, -222, -322, -324, and -325 airplanes), both including Appendix 1, both dated October 3, 2008. Replacement of the center latches does not constitute terminating action for the repetitive inspections required by paragraph (f)(2) of this AD.

FAA AD Differences

Note 2: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency Airworthiness Directive 2008-0226, dated December 19, 2008; and the service information contained in Table 1 of this AD; for related information.

Table 1—Related Service Information
Document | Date
Airbus Mandatory Service Bulletin A300-78-6029, including Appendix 1 | October 3, 2008.
Airbus Mandatory Service Bulletin A310-78-2030, including Appendix 1 | October 3, 2008.
Pratt & Whitney Service Bulletin PW4NAC 78-113 | August 15, 2005.
Pratt & Whitney Service Bulletin PW7R4 78-182 | August 15, 2005.

Material Incorporated by Reference

(i) You must use the service information contained in Table 2 of this AD to do the actions required by this AD, as applicable, unless the AD specifies otherwise.

Table 2—Material Incorporated by Reference
Document | Date
Airbus Mandatory Service Bulletin A300-78-6029, including Appendix 1 | October 3, 2008.
Airbus Mandatory Service Bulletin A310-78-2030, including Appendix 1 | October 3, 2008.
Pratt & Whitney Service Bulletin PW4NAC 78-113 | August 15, 2005.
Pratt & Whitney Service Bulletin PW7R4 78-182 | August 15, 2005.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on January 28, 2010.
Ali Bahrami,
Manager, Transport Airplane Directorate, Aircraft Certification Service.

[FR Doc. 2010-2601 Filed 2-11-10; 8:45 am]

BILLING CODE 4910-13-P